DEPARTMENT OF TRANSPORTATION

Federal Aviation Administration

14 CFR Part 39

[Docket No. 2000-NM-130-AD; Amendment 39-11954; AD 2000-22-08]

RIN 2120-AA64

Airworthiness Directives; Empresa Brasileira de Aeronautica S.A. (EMBRAER) Model EMB-120 Series Airplanes

AGENCY: Federal Aviation Administration, DOT.

ACTION: Final rule.

SUMMARY: This amendment adopts a new airworthiness directive (AD), applicable to certain EMBRAER Model EMB-120 series airplanes, that requires inspections of certain components, and corrective action, if necessary. The actions specified by this AD are intended to prevent deterioration and deformation of the mass-balance weights of the aileron, which could affect the surface balance of the aileron and result in loss of aileron control and consequent reduced controllability of the airplane. This action is intended to address the identified unsafe condition.

DATES: Effective December 11, 2000.

The incorporation by reference of certain publications listed in the regulations is approved by the Director of the Federal Register as of December 11, 2000.

ADDRESSES: The service information referenced in this AD may be obtained from Empresa Brasileira de Aeronautica S.A. (EMBRAER), P.O. Box 343—CEP 12.225, Sao Jose dos Campos—SP, Brazil. This information may be examined at the Federal Aviation Administration (FAA), Transport Airplane Directorate, Rules Docket, 1601 Lind Avenue, SW., Renton, Washington; or at the FAA, Atlanta Aircraft Certification Office, One Crown Center, 1895 Phoenix Boulevard, suite 450, Atlanta, Georgia; or at the Office of the Federal Register, 800 North Capitol Street, NW., suite 700, Washington, DC.

FOR FURTHER INFORMATION CONTACT: Satish Lall, Aerospace Engineer, Airframe and Propulsion Branch, ACE-117A, FAA, Atlanta Aircraft Certification Office, One Crown Center, 1895 Phoenix Boulevard, suite 450, Atlanta, Georgia 30337-2748; telephone (770) 703-6082; fax (770) 703-6097.

SUPPLEMENTARY INFORMATION: A proposal to amend part 39 of the Federal Aviation Regulations (14 CFR part 39) to include an airworthiness directive (AD) that is applicable to certain Model EMB-120 series airplanes, was published in the Federal Register on July 17, 2000 (65 FR 44013). That action proposed to require inspections of certain components, and corrective action, if necessary.

Comments

Interested persons have been afforded an opportunity to participate in the making of this amendment. No comments were submitted in response to the proposal or the FAA's determination of the cost to the public.

Conclusion

The FAA has determined that air safety and the public interest require the adoption of the rule as proposed.

Cost Impact

The FAA estimates that approximately 28 U.S.-registered airplanes will be required to measure the gap between the mass-balance weights and aileron hinge attachment. It will take approximately 2 work hours per airplane to accomplish the required measurement, at an average labor rate of $60 per work hour. Based on these figures, the cost impact of the required measurement on U.S. operators is estimated to be $3,360, or $120 per airplane, per inspection cycle.

The FAA estimates that approximately 230 U.S.-registered airplanes will be required to inspect the mass-balance weights to detect any cavity, hole, or delamination. It will take approximately 8 work hours per airplane to accomplish the required inspection, at an average labor rate of $60 per work hour. Based on these figures, the cost impact of the required inspection on U.S. operators is estimated to be $110,400, or $480 per airplane.

The cost impact figures discussed above are based on assumptions that no operator has yet accomplished any of the requirements of this AD action, and that no operator will accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2000-22-08 Empresa Brasileira de Aeronautica S.A. (Embraer): Amendment 39-11954. Docket 2000-NM-130-AD.

Applicability: Model EMB-120 series airplanes, serial numbers 120-0001 through 120-0333 inclusive; certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance: Required as indicated, unless accomplished previously.

To prevent deterioration and deformation of the mass-balance weights of the aileron, which could affect the surface balance of the aileron and result in loss of aileron control and consequent reduced controllability of the airplane, accomplish the following:

Measurement of Clearance and Corrective Actions

(a) For airplanes having serial numbers 120-0291, 120-0294, and 120-0296 through 120-0333 inclusive: Within 150 flight hours after the effective date of this AD, measure the clearance between the aileron mass-balance weights and attach fittings on the left and right sides of the airplane, in accordance with PART I of the Accomplishment Instructions of EMBRAER Service Bulletin 120-27-0077, Change No. 01, dated October 24, 1997.

(1) If the clearance is within the acceptable limits described in the service bulletin, thereafter, repeat the measurement at intervals not to exceed 1,000 flight hours until the actions required by paragraph (b) of this AD have been accomplished.

(2) If the clearance is outside the acceptable limits described in the service bulletin, prior to further flight, replace the affected mass-balance weight with a new, improved mass-balance weight, in accordance with PART III of the Accomplishment Instructions of the service bulletin. Such replacement terminates the requirement to accomplish paragraph (b) of this AD.

Detailed Visual Inspection and Follow-On Actions

(b) For all airplanes: Within 2,000 flight hours after the effective date of this AD, perform a one-time detailed visual inspection of the aileron mass-balance weights to detect any cavity, hole, or delamination, in accordance with PART II of the Accomplishment Instructions of EMBRAER Service Bulletin 120-27-0077, Change No. 01, dated October 24, 1997. Such inspection constitutes terminating action for the repetitive inspections required by paragraph (a)(1) of this AD for airplanes subject to paragraph (a) of this AD.

(1) If no cavity, hole, or delamination is detected: Prior to further flight, perform a one-time detailed visual inspection to detect white powder on the surface of the mass-balance weights, in accordance with PART II of the Accomplishment Instructions of the service bulletin. If any white powder is found, remove the white powder in accordance with the service bulletin.

(2) If any cavity, hole, or delamination is found, prior to further flight, replace the affected mass-balance weight with a new, improved mass-balance weight, in accordance with PART III of the Accomplishment Instructions of the service bulletin.

Alternative Methods of Compliance

(c) An alternative method of compliance or adjustment of the compliance time that provides an acceptable level of safety may be used if approved by the Manager, Atlanta Aircraft Certification Office (ACO), FAA. Operators shall submit their requests through an appropriate FAA Principal Maintenance Inspector, who may add comments and then send it to the Manager, Atlanta ACO.

Note 2: Information concerning the existence of approved alternative methods of compliance with this AD, if any, may be obtained from the Atlanta ACO.

Special Flight Permits

(d) Special flight permits may be issued in accordance with sections 21.197 and 21.199 of the Federal Aviation Regulations (14 CFR 21.197 and 21.199) to operate the airplane to a location where the requirements of this AD can be accomplished.

Incorporation by Reference

(e) The actions shall be done in accordance with EMBRAER Service Bulletin 120-27-0077, Change No. 01, dated October 24, 1997. This incorporation by reference was approved by the Director of the Federal Register in accordance with 5 U.S.C. 552(a) and 1 CFR part 51. Copies may be obtained from Empresa Brasileira de Aeronautica S.A. (EMBRAER), P.O. Box 343—CEP 12.225, Sao Jose dos Campos—SP, Brazil. Copies may be inspected at the FAA, Transport Airplane Directorate, 1601 Lind Avenue, SW., Renton, Washington; or at the FAA, Atlanta Aircraft Certification Office, One Crown Center, 1895 Phoenix Boulevard, suite 450, Atlanta, Georgia; or at the Office of the Federal Register, 800 North Capitol Street, NW., suite 700, Washington, DC.

Note 3: The subject of this AD is addressed in Brazilian airworthiness directive 98-01-02, dated January 15, 1998.

Effective Date

(f) This amendment becomes effective on December 11, 2000.

Issued in Renton, Washington, on October 24, 2000.
Donald L. Riggin,
Acting Manager, Transport Airplane Directorate, Aircraft Certification Service.

[FR Doc. 00-27789 Filed 11-3-00; 8:45 am]

BILLING CODE 4910-13-P